DEPARTMENT OF JUSTICE

Notice of Lodging of Consent Decree Under the Clean Air Act

Notice is hereby given that on April 12, 2012, a proposed Consent Decree (“Decree”) in United States v. South East Metals, Inc., Civil Action No. 1:11-cv-00751, was lodged with the United States District Court for the Northern District of Ohio.

In this action the United States, on behalf of the U.S. Environmental Protection Agency (“U.S. EPA”), sought penalties and injunctive relief under the Clean Air Act (“CAA”) against South East Metals, Inc., d/b/a Southeast Metals (“Defendant”) relating to Defendant's Bedford Heights, Ohio facility (“Facility”). The Complaint alleged that Defendant violated Section 608(b)(1) of the CAA, 42 U.S.C. 7671g(b)(1) (National Recycling and Emission Reduction Program), and the regulations promulgated thereunder, 40 CFR part 82, Subpart F, by failing to follow the requirement to recover or verify recovery of refrigerant from appliances it accepts for disposal. The Complaint also alleges that Defendant failed to respond to an information request issued pursuant to Section 114 of the CAA, 42 U.S.C. 9614. The Consent Decree provides for a civil penalty of $15,000 based upon ability to pay. The Decree also requires Defendant to implement the following measures at the Facility: (1) Purchase equipment to recover refrigerant or contract for such services and provide for such recovery at no additional cost; (2) no longer accept small appliances, motor vehicle air conditioners (“MVACs”), or MVAC-like appliances with cut lines unless the supplier can provide appropriate written verification (e.g., that all refrigerant that had not leaked previously was properly evacuated); (3) require its suppliers to use the verification statement provided in Appendix A that contains the information required by the regulations, unless it has an existing written agreement with that supplier regarding verification; and (4) keep a refrigerant recovery log to document details regarding refrigerant that is recovered by Defendant in the form provided in Appendix B.

The Department of Justice will receive for a period of thirty (30) days from the date of this publication comments relating to the Decree. Comments should be addressed to the Assistant Attorney General, Environment and Natural Resources Division, P.O. Box 7611, U.S. Department of Justice, Washington, DC 20044-7611, and either emailed to pubcomment-ees.enrd@usdoj.gov or mailed to P.O. Box 7611, U.S. Department of Justice, Washington, DC 20044-7611, and should refer to United States v. South East Metals, Inc., D. J. Ref. 90-5-2-1-09775. The Decree may be examined at the Office of the United States Attorney, Northern District of Ohio, 801 West Superior Avenue, Suite 400, Cleveland, OH 44113 (contact Assistant U.S. Attorney Steven Paffilas (216) 622-3698) and at U.S. EPA, Region 5, 77 West Jackson Blvd., Chicago, IL 60604. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. In requesting a copy from the Consent Decree Library, please enclose a check in the amount of $7.50 (25 cents per page reproduction cost) payable to the U.S. Treasury or, if by email or fax, forward a check in that amount to the Consent Decree Library at the stated address.

Maureen Katz,
Assistant Chief, Environmental Enforcement Section, Environment and Natural Resources Division.

[FR Doc. 2012-9268 Filed 4-17-12; 8:45 am]

BILLING CODE 4410-15-P